DEPARTMENT OF TRANSPORTATION

Federal Aviation Administration

[Docket No. FAA-2006-25553]

Request for Public Comment on Noise Analysis for Fort Lauderdale-Hollywood International Airport, Broward County, FL

Correction

In notice document 06-8975 beginning on page 63829 in the issue of Tuesday, October 31, 2006, make the following correction:

On page 63830, in the third column, in the first paragraph, in the last five lines,

“(See http://www.faa.gov/

airports_airtraffic/airports/

regional_guidance/southern/

environmental/media/

fll_exhib3_2004_2005_baseline.pdf)” should read

“(See http://www.faa.gov/

airports_airtraffic/airports/

regional_guidance/southern/

environmental/media/

fll_exhib3_compare_2004_2005_

baseline.pdf)”.

[FR Doc. C6-8975 Filed 11-9-06; 8:45 am]

BILLING CODE 1505-01-D